SECURITIES AND EXCHANGE COMMISSION

[File No. 500-1]

In the Matter of First American Scientific Corp., Order of Suspension of Trading

April 22, 2015.

It appears to the Securities and Exchange Commission that there is a lack of current and accurate information concerning the securities of First American Scientific Corp. (CIK No. 1002822), a Nevada corporation with its principal place of business listed as Abbotsford, British Columbia, Canada, with stock quoted on OTC Link (previously, “Pink Sheets”) operated by OTC Markets Group, Inc. (“OTC Link”) under the ticker symbol FASC, because it has not filed any periodic reports since the period ended March 31, 2012. On May 2, 2014, First American Scientific Corp. received a delinquency letter sent by the Division of Corporation Finance requesting compliance with their periodic filing obligations.

The Commission is of the opinion that the public interest and the protection of investors require a suspension of trading in the securities of the above-listed company.

Therefore, it is ordered, pursuant to Section 12(k) of the Securities Exchange Act of 1934, that trading in the securities of the above-listed company is suspended for the period from 9:30 a.m. EDT on April 22, 2015, through 11:59 p.m. EDT on May 5, 2015.

By the Commission.
Jill M. Peterson,
Secretary.

[FR Doc. 2015-09685 Filed 4-22-15; 4:15 pm]

BILLING CODE 8011-01-P